DEPARTMENT OF COMMERCE

International Trade Administration

[A-570-970]

Multilayered Wood Flooring From the People's Republic of China: Notice of Amended Preliminary Determination of Sales at Less Than Fair Value

AGENCY: Import Administration, International Trade Administration, Department of Commerce.

DATES: Effective Date: June 27, 2011.

SUMMARY: The Department of Commerce (“Department”) has determined that it made certain significant ministerial errors in the preliminary determination of sales at less than fair value in the antidumping duty investigation of multilayered wood flooring from the People's Republic of China (“PRC”), as described below in the SUPPLEMENTARY INFORMATION section of this notice. The Department has corrected these errors and has re-calculated the antidumping duty margin for a mandatory respondent, for exporters eligible for a separate rate, and for the PRC-wide rate, as described below in the “Amended Preliminary Determination” section of this notice.

FOR FURTHER INFORMATION CONTACT: Charles Riggle, Import Administration, International Trade Administration, U.S. Department of Commerce, 14th Street and Constitution Avenue, NW., Washington, DC 20230; telephone: 482-0650.

SUPPLEMENTARY INFORMATION:

On May 26, 2011, the Department published its affirmative preliminary determination in this proceeding that multilayered wood flooring from the PRC is being, or is likely to be, sold in the United States at less than fair value, as provided by section 773 of the Tariff Act of 1930, as amended (the “Act”). See Multilayered Wood Flooring From the People's Republic of China: Notice of Preliminary Determination of Sales at Less Than Fair Value, 76 FR 30656 (May 26, 2011) (“Preliminary Determination”).

On May 31, 2011, Riverside Plywood Corporation, Samling Elegant Living Trading (Labuan) Limited, Samling Global USA, Inc., Samling Riverside Co., Ltd. and Suzhou Times Flooring (collectively, the “Samling Group”) and Vicwood Industry (Suzhou) Co., Ltd. (“Vicwood”) submitted timely ministerial error allegations with respect to the Department's Preliminary Determination. Therefore, in accordance to section 351.224(e) of the Department's regulations, we have made changes, as discussed below, to the Preliminary Determination.

Period of Investigation

The period of investigation (“POI”) is April 1, 2010, through September 30, 2010. This period corresponds to the two most recent fiscal quarters prior to the month of the filing of the petition, which was October 2010. See 19 CFR 351.204(b)(1).

Scope of Investigation

Multilayered wood flooring is composed of an assembly of two or more layers or plies of wood veneer(s) ¹ in combination with a core. The several layers, along with the core, are glued or otherwise bonded together to form a final assembled product. Multilayered wood flooring is often referred to by other terms, e.g., “engineered wood flooring” or “plywood flooring.” Regardless of the particular terminology, all products that meet the description set forth herein are intended for inclusion within the definition of subject merchandise.

¹ A “veneer” is a thin slice of wood, rotary cut, sliced or sawed from a log, bolt or flitch. Veneer is referred to as a ply when assembled.

All multilayered wood flooring is included within the definition of subject merchandise, without regard to: dimension (overall thickness, thickness of face ply, thickness of back ply, thickness of core, and thickness of inner plies; width; and length); wood species used for the face, back and inner veneers; core composition; and face grade. Multilayered wood flooring included within the definition of subject merchandise may be unfinished (i.e., without a finally finished surface to protect the face veneer from wear and tear) or “prefinished” (i.e., a coating applied to the face veneer, including, but not exclusively, oil or oil-modified or water-based polyurethanes, ultra-violet light cured polyurethanes, wax, epoxy-ester finishes, moisture-cured urethanes and acid-curing formaldehyde finishes.) The veneers may be also soaked in an acrylic-impregnated finish. All multilayered wood flooring is included within the definition of subject merchandise regardless of whether the face (or back) of the product is smooth, wire brushed, distressed by any method or multiple methods, or hand-scraped. In addition, all multilayered wood flooring is included within the definition of subject merchandise regardless of whether or not it is manufactured with any interlocking or connecting mechanism (for example, tongue-and-groove construction or locking joints). All multilayered wood flooring is included within the definition of the subject merchandise regardless of whether the product meets a particular industry or similar standard.

The core of multilayered wood flooring may be composed of a range of materials, including but not limited to hardwood or softwood veneer, particleboard, medium-density fiberboard (MDF), high-density fiberboard (HDF), stone and/or plastic composite, or strips of lumber placed edge-to-edge.

Multilayered wood flooring products generally, but not exclusively, may be in the form of a strip, plank, or other geometrical patterns (e.g., circular, hexagonal). All multilayered wood flooring products are included within this definition regardless of the actual or nominal dimensions or form of the product.

Specifically excluded from the scope are cork flooring and bamboo flooring, regardless of whether any of the sub-surface layers of either flooring are made from wood. Also excluded is laminate flooring. Laminate flooring consists of a top wear layer sheet not made of wood, a decorative paper layer, a core-layer of high-density fiberboard, and a stabilizing bottom layer. Imports of the subject merchandise are provided for under the following subheadings of the Harmonized Tariff Schedule of the United States (HTSUS): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.3175; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; and 4418.72.9500.

In addition, imports of subject merchandise may enter the United States under the following HTSUS subheadings: 4409.10.0500; 4409.10.2000; 4409.29.0515; 4409.29.0525; 4409.29.0535; 4409.29.0545; 4409.29.0555; 4409.29.0565; 4409.29.2530; 4409.29.2550; 4409.29.2560; 4418.71.1000; 4418.79.0000; and 4418.90.4605.

While HTSUS subheadings are provided for convenience and customs purposes, the written description of the subject merchandise is dispositive.

Significant Ministerial Error

Ministerial errors are defined in section 735(e) of the Act as “errors in addition, subtraction, or other arithmetic function, clerical errors resulting from inaccurate copying, duplication, or the like, and any other type of unintentional error which the administering authority considers ministerial.” Section 351.224(e) of the Department's regulations provides that the Department “will analyze any comments received and, if appropriate, correct any significant ministerial error by amending the preliminary determination * * *.” See 19 CFR 361.224(e). A significant ministerial error is defined as a ministerial error, the correction of which, either singly or in combination with other errors, would result in (1) A change of at least five absolute percentage points in, but not less than 25 percent of, the weighted-average dumping margin calculated in the original (erroneous) preliminary determination, or (2) a difference between a weighted-average dumping margin of zero (or de minimis) and a weighted-average dumping margin of greater than de minimis or vice versa. See 19 CFR 351.224(g).

In accordance with 19 CFR 351.224(e) and (g)(1), the Department is amending the preliminary determination of sales at less than fair value in the antidumping duty investigation of multilayered wood flooring from the PRC to reflect the correction of significant ministerial errors it made in the margin calculations regarding the mandatory respondent in this investigation, the Samling Group. See also Memorandum from Brandon Petelin and Erin Kearney, International Trade Analysts to Abdelali Elouaradia, Office Director, “Preliminary Determination of Antidumping Duty Investigation on Multilayered Wood Flooring from the People's Republic of China: Allegations of Ministerial Errors,” dated June 20, 2011 (“Ministerial Error Memo”).

Ministerial Error Allegation

a. Manufacturing Overhead Ratio

The Samling Group argues that the Department erred by inadvertently applying an incorrect ratio for the Samling Group's manufacturing overhead ratio in the calculation of normal value. The Department agrees, and finds that this error qualifies as a ministerial error in accordance with section 735(e) of the Act. See Ministerial Error Memo at 2-3.

b. Deduction of Warranty Expenses

The Samling Group argues that the Department committed a ministerial error by failing to deduct all price adjustments reported in the Sampling Group's other discounts. The Department disagrees and finds that it intentionally deducted certain price adjustments from U.S. price, while intentionally not deducting price adjustments related to warranty expenses. Therefore, we find this calculation is not an error on its part. See id. at 3-4.

c. Supplier Distance

The Samling Group argues that the Department committed a ministerial error by applying actual supplier distance for one of its raw materials instead of applying the shortest distance from the factory to the nearest port. The Department agrees, and finds that this error qualifies as a ministerial error in accordance with section 735(e) of the Act. See id. at 4.

The Department determines that correcting these errors would result in a change of at least five absolute percentage points in, but not less than 25 percent of, the weighted-average dumping margin calculated in the original (erroneous) preliminary determination, and thus has corrected these errors. As a result, the Department has recalculated the Samling Group's preliminary margin.

d. Separate Rate Status of a Separate Rate Applicant

Vicwood claims that the Department erred by not including its exporters' names in the preliminary determination. The Department disagrees that it committed a ministerial error by omitting Vicwood's exporters' names. See id. at 4.

PRC-Wide Rate

In the preliminary determination the Department found that the use of adverse facts available (“AFA”) is appropriate to determine the PRC-wide rate. See Preliminary Determination, at 30662. The petition identified rates of 194.49 and 280.60 percent.² These rates are higher than any of the calculated rates assigned to individually examined companies. Thus, as AFA, the Department's practice would be to assign the rate of 280.60 percent to the PRC-wide entity. Section 776(c) of the Act, however, requires the Department to corroborate, to the extent practicable, secondary information used as facts available. While there were U.S. prices within the range of the prices contained in the petition, the normal value information contained in the petition does not have probative value for purposes of this preliminary determination. Thus, with respect to AFA, for the preliminary determination, we assigned the PRC-wide entity the rate of 82.65 percent, the highest calculated transaction-specific rate among mandatory respondents. See Preliminary Determination, at 30662. For the amended preliminary determination, we have assigned the PRC-wide entity a margin of 27.12 percent, the highest calculated transaction-specific rate among mandatory respondents after correcting the significant ministerial errors. No corroboration of this rate is necessary because we are relying on information obtained in the course of this investigation, rather than secondary information.³

² See Multilayered Wood Flooring from the People's Republic of China: Initiation of Antidumping Investigation, 75 FR 70714 (November 18, 2010).

³ See 19 CFR 351.308(c) and (d) and section 776(c) of the Act; see also Final Determination of Sales at Less Than Fair Value and Affirmative Determination of Critical Circumstances, in Part: Light-Walled Rectangular Pipe and Tube from the People's Republic of China, 73 FR 35652, 35653 (June 24, 2008), and accompanying Issues and Decision Memorandum at 1.

Margin for the Separate Rate Companies

As discussed above, the Department has preliminarily determined that in addition to the individually investigated entities, 73 other companies have demonstrated their eligibility for a separate rate. Normally, the Department's practice is to establish a separate rate margin for these entities based on the average of the rates we calculated for the mandatory respondents, excluding any rates that were zero, de minimis, or based entirely on AFA.⁴ In the instant investigation, all calculated margins were equal to zero or de minimis. Therefore, we have used the simple average of the mandatory respondents and PRC-wide entity to obtain the separate rate of 6.78 percent.⁵

⁴ See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007); 1-Hydroxyethylidene-1,1-Diphosphonic Acid from the People's Republic of China: Final Determination of Sales at Less Than Fair Value, 74 FR 10545, 10546 (March 11, 2009) (“HEDP from the PRC.”

⁵ See HEDP from the PRC, 74 FR 10545, 10546.

Amended Preliminary Determination

We are publishing this amended preliminary determination pursuant to 19 CFR 351.224(e). As a result of this amended preliminary determination, we have revised the antidumping rate for Samling Group. In addition, we have revised the separate rate based on the mandatory respondents' revised dumping margin.

As a result of our correction of significant ministerial errors in the Preliminary Determination, we have determined that the following weighted-average dumping margins apply:

Exporter | Producer | Weighted average margin
Zhejiang Layo Wood Industry Co., Ltd | Zhejiang Layo Wood Industry Co., Ltd | * 0.00
The Samling Group** | The Samling Group ** | * 0.29
Zhejiang Yuhua Timber Co., Ltd | Zhejiang Yuhua Timber Co., Ltd | * 0.00
Jiaxing Brilliant Import & Export Co., Ltd | Zhejiang Layo Wood Industry Co., Ltd | 6.78
MuDanJiang Bosen Wood Industry Co., Ltd | MuDanJiang Bosen Wood Industry Co., Ltd | 6.78
MuDanJiang Bosen Wood Industry Co., Ltd | Dun Hua Sen Tai Wood Co., Ltd | 6.78
Huzhou Chenghang Wood Co., Ltd | Huzhou Chenghang Wood Co., Ltd | 6.78
Hangzhou Hanje Tec Co., Ltd | Zhejiang Jiechen Wood Industry Co., Ltd | 6.78
Nakahiro Jyou Sei Furniture (Dalian) Co., Ltd | Nakahiro Jyou Sei Furniture (Dalian) Co., Ltd | 6.78
Shenyang Haobainian Wooden Co., Ltd | Shenyang Sende Wood Co., Ltd | 6.78
Shenyang Haobainian Wooden Co., Ltd | Shenyang Haobainian Wooden Co., Ltd | 6.78
Shenyang Haobainian Wooden Co., Ltd | Shanghai Demeijia Wooden Co., Ltd | 6.78
Dalian Dajen Wood Co., Ltd | Dalian Dajen Wood Co., Ltd | 6.78
HaiLin LinJing Wooden Products, Ltd | HaiLin LinJing Wooden Products, Ltd | 6.78
Dun Hua Sen Tai Wood Co., Ltd | Dun Hua Sen Tai Wood Co., Ltd | 6.78
Dunhua Jisheng Wood Industry Co., Ltd | Dunhua Jisheng Wood Industry Co., Ltd | 6.78
Hunchun Forest Wolf Industry Co., Ltd | Hunchun Forest Wolf Industry Co., Ltd | 6.78
Guangzhou Panyu Southern Star Co., Ltd | Guangzhou Jiasheng Timber Industry Co., Ltd | 6.78
Nanjing Minglin Wooden Industry Co., Ltd | Nanjing Minglin Wooden Industry Co., Ltd | 6.78
Zhejiang Fudeli Timber Industry Co., Ltd | Zhejiang Fudeli Timber Industry Co., Ltd | 6.78
Suzhou Dongda Wood Co., Ltd | Suzhou Dongda Wood Co., Ltd | 6.78
Guangzhou Pan Yu Kang Da Board Co., Ltd | Guangzhou Pan Yu Kang Da Board Co., Ltd | 6.78
Kornbest Enterprises Ltd | Guangzhou Pan Yu Kang Da Board Co., Ltd | 6.78
Metropolitan Hardwood Floors, Inc | Dalian Huilong Wooden Products Co., Ltd | 6.78
Metropolitan Hardwood Floors, Inc | Mudanjiang Bosen Wood Co., Ltd | 6.78
Metropolitan Hardwood Floors, Inc | Nakahiro Jyou Sei Furniture (Dalian) Co., Ltd | 6.78
Metropolitan Hardwood Floors, Inc | Hunchun Forest Wolf Wooden Industry Co., Ltd | 6.78
Metropolitan Hardwood Floors, Inc | Kemian Wood Industry (Kunshan) Co., Ltd | 6.78
Metropolitan Hardwood Floors, Inc | Shenyang Haobainian Wooden Co., Ltd | 6.78
Zhejiang Longsen Lumbering Co., Ltd | Zhejiang Longsen Lumbering Co., Ltd | 6.78
Xinyuan Wooden Industry Co., Ltd | Xinyuan Wooden Industry Co., Ltd | 6.78
Dasso Industrial Group Co., Ltd | Dasso Industrial Group Co., Ltd | 6.78
Hong Kong Easoon Wood Technology Co., Ltd | Dasso Industrial Group Co., Ltd | 6.78
Armstrong Wood Products Kunshan Co., Ltd | Armstrong Wood Products Kunshan Co., Ltd | 6.78
Baishan Huafeng Wooden Product Co., Ltd | Baishan Huafeng Wooden Product Co., Ltd | 6.78
Changbai Mountain Development and Protection Zone Hongtu Wood Industry Co., Ltd | Changbai Mountain Development and Protection Zone Hongtu Wood Industry Co., Ltd | 6.78
Changzhou Hawd Flooring Co., Ltd | Changzhou Hawd Flooring Co., Ltd | 6.78
Dalian Jiuyuan Wood Industry Co., Ltd | Dalian Jiuyuan Wood Industry Co., Ltd | 6.78
Dalian Penghong Floor Products Co., Ltd | Dalian Penghong Floor Products Co., Ltd | 6.78
Dongtai Fuan Universal Dynamics LLC | Dongtai Fuan Universal Dynamics LLC | 6.78
Dunhua City Dexin Wood Industry Co., Ltd | Dunhua City Dexin Wood Industry Co., Ltd | 6.78
Dunhua City Hongyuan Wood Industry Co., Ltd | Dunhua City Hongyuan Wood Industry Co., Ltd | 6.78
Dunhua City Jisen Wood Industry Co., Ltd | Dunhua City Jisen Wood Industry Co., Ltd | 6.78
Dunhua City Wanrong Wood Industry Co., Ltd | Dunhua City Wanrong Wood Industry Co., Ltd | 6.78
Fusong Jinlong Wooden Group Co., Ltd | Fusong Jinlong Wooden Group Co., Ltd | 6.78
Fusong Qianqiu Wooden Product Co., Ltd | Fusong Qianqiu Wooden Product Co., Ltd | 6.78
GTP International | Jiangsu Senmao Bamboo and Wood Industry Co., Ltd | 6.78
GTP International | Jiafeng Wood (Suzhou) Co., Ltd | 6.78
GTP International | Suzhou Dongda Wood Co., Ltd | 6.78
GTP International | Kemian Wood Industry (Kunshan) Co., Ltd | 6.78
Guangdong Yihua Timber Industry Co., Ltd | Guangdong Yihua Timber Industry Co., Ltd | 6.78
HaiLin LinJing Wooden Products, Ltd | HaiLin LinJing Wooden Products, Ltd | 6.78
Huzhou Fulinmen Imp & Exp. Co., Ltd | Huzhou Fulinmen Wood Floor Co., Ltd | 6.78
Huzhou Fuma Wood Bus. Co., Ltd | Huzhou Fuma Wood Bus. Co., Ltd | 6.78
Jiafeng Wood (Suzhou) Co., Ltd | Jiafeng Wood (Suzhou) Co., Ltd | 6.78
Jiashan Hui Jia Le Decoration Material Co., Ltd | Jiashan Hui Jia Le Decoration Material Co., Ltd | 6.78
Jilin Forest Industry Jinqiao Flooring Group Co., Ltd | Jilin Forest Industry Jinqiao Flooring Group Co., Ltd | 6.78
Karly Wood Product Limited | Karly Wood Product Limited | 6.78
Kunshan Yingyi-Nature Wood Industry Co., Ltd | Kunshan Yingyi-Nature Wood Industry Co., Ltd | 6.78
Puli Trading Ltd | Baiying Furniture Manufacturer Co., Ltd | 6.78
Shanghai Eswell Timber Co., Ltd | Shanghai Eswell Timber Co., Ltd | 6.78
Shanghai Lairunde Wood Co., Ltd | Shanghai Lairunde Wood Co., Ltd | 6.78
Shanghai New Sihe Wood Co., Ltd | Shanghai New Sihe Wood Co., Ltd | 6.78
Shanghai Shenlin Corporation | Shanghai Shenlin Corporation | 6.78
Shenzhenshi Huanwei Woods Co., Ltd | Shenzhenshi Huanwei Woods Co., Ltd | 6.78
Vicwood Industry (Suzhou) Co., Ltd | Vicwood Industry (Suzhou) Co., Ltd | 6.78
Xiamen Yung De Ornament Co., Ltd | Xiamen Yung De Ornament Co., Ltd | 6.78
Xuzhou Shenghe Wood Co., Ltd | Xuzhou Shenghe Wood Co., Ltd | 6.78
Yixing Lion-King Timber Industry Co., Ltd | Yixing Lion-King Timber Industry Co., Ltd | 6.78
Jiangsu Simba Flooring Industry Co., Ltd | Yixing Lion-King Timber Industry Co., Ltd | 6.78
Zhejiang Biyork Wood Co., Ltd | Zhejiang Biyork Wood Co., Ltd | 6.78
Zhejiang Dadongwu GreenHome Wood Co., Ltd | Zhejiang Dadongwu GreenHome Wood Co., Ltd | 6.78
Zhejiang Desheng Wood Industry Co., Ltd | Zhejiang Desheng Wood Industry Co., Ltd | 6.78
Zhejiang Shiyou Timber Co., Ltd | Zhejiang Shiyou Timber Co., Ltd | 6.78
Zhejiang Tianzhen Bamboo & Wood Development Co., Ltd | Zhejiang Tianzhen Bamboo & Wood Development Co., Ltd | 6.78
Chinafloors Timber (China) Co., Ltd | Chinafloors Timber (China) Co., Ltd | 6.78
Shanghai Lizhong Wood Products Co., Ltd | Shanghai Lizhong Wood Products Co., Ltd | 6.78
Fine Furniture (Shanghai) Limited | Fine Furniture (Shanghai) Limited | 6.78
Huzhou Sunergy World Trade Co., Ltd | Zhejiang Haoyun Wood Co., Ltd | 6.78
Huzhou Sunergy World Trade Co., Ltd | Nanjing Minglin Wooden Industry Co., Ltd | 6.78
Huzhou Sunergy World Trade Co., Ltd | Zhejiang AnJi XinFeng Bamboo & Wood Co., Ltd | 6.78
Huzhou Jesonwood Co., Ltd | Zhejiang Jeson Wood Co., Ltd | 6.78
Huzhou Jesonwood Co., Ltd | Huzhou Jesonwood Co., Ltd | 6.78
A&W (Shanghai) Woods Co., Ltd | A&W (Shanghai) Woods Co., Ltd | 6.78
A&W (Shanghai) Woods Co., Ltd | Suzhou Anxin Weiguang Timber Co., Ltd | 6.78
Fu Lik Timber (HK) Company Limited | Guangdong Fu Lin Timber Technology Limited | 6.78
Yekalon Industry, Inc./Sennorwell International Group (Hong Kong) Limited | Jilin Xinyuan Wooden Industry Co., Ltd | 6.78
Kemian Wood Industry (Kunshan) Co., Ltd | Kemian Wood Industry (Kunshan) Co., Ltd | 6.78
Dalian Kemian Wood Industry Co., Ltd | Dalian Kemian Wood Industry Co., Ltd | 6.78
Dalian Huilong Wooden Products Co., Ltd | Dalian Huilong Wooden Products Co., Ltd | 6.78
Jiangsu Senmao Bamboo and Wood Industry Co., Ltd | Jiangsu Senmao Bamboo and Wood Industry Co., Ltd | 6.78
PRC-wide Entity |  | 27.12
* de minimis
** The Samling Group consists of the following companies: Baroque Timber Industries (Zhongshan) Co., Ltd., Riverside Plywood Corporation, Samling Elegant Living Trading (Labuan) Limited, Samling Riverside Co., Ltd., and Suzhou Times Flooring Co., Ltd.

The collection of bonds or cash deposits and suspension of liquidation will be revised according to the rates calculated in these amended preliminary results. Because these amended rates result in a reduced bond or cash deposit, they will be effective retroactively to May 26, 2011, the date of publication of the Preliminary Determination, and parties will be notified of this determination, in accordance with section 733(d) and (f) of the Act.

International Trade Commission Notification

In accordance with section 733(f) of the Act, we have notified the International Trade Commission (“ITC”) of our amended preliminary determination. If our final determination is affirmative, the ITC will determine before the later of 120 days after the date of the preliminary determination or 45 days after our final determination whether the domestic industry in the United States is materially injured, or threatened with material injury, by reason of imports, or sales (or the likelihood of sales) for importation, of the subject merchandise.

This determination is issued and published in accordance with sections 733(f) and 777(i)(1) of the Act and 19 CFR 351.224(e).

Dated: June 20, 2011.
Ronald K. Lorentzen,
Deputy Assistant Secretary for Import Administration.

[FR Doc. 2011-16070 Filed 6-24-11; 8:45 am]

BILLING CODE 3510-DS-P